DEPARTMENT OF HOUSING AND URBAN DEVELOPMENT

[Docket No. FR-4654-N-01]

Notice of Proposed Information Evaluation Study of Rounds 6-8 of HUD's Lead Hazard Control Grant Program

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: January 7, 2002.

ADDRESSES: Interested persons are invited to submit comments regarding this proposal. Comments should refer to the proposal by name and/or OMB Control Number and should be sent to: Gail N. Ward, Reports Liaison Officer, Department of Housing and Urban Development, 451 7th Street, SW., Room P3206, Washington, DC 20410.

FOR FURTHER INFORMATION CONTACT: Dr. Peter Ashley, (202) 755-1785 ext. 115 (this is not a toll-free number) for available documents regarding this proposal.

SUPPLEMENTARY INFORMATION: The Department is submitting the proposed information collection to OMB for review, as required by the Paperwork Reduction Act of 1995 (44 U.S.C. Chapter 35, as amended).

This Notice is soliciting comments from members of the pubic and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information on those who are to respond; including through the use of appropriate automated collection techniques or other forms of information technology, e.g., permitting electronic submission of responses.

The Notice also lists the following information:

Title of Proposal: Evaluation Study of Rounds 6-8 of HUD's Lead Hazard Control Grant Program.

OMB Control Number: To be assigned.

Need for the Information and Proposed Use: In order to assist in fulfilling its mission of eliminating lead-based paint hazards and other housing-related threats to children's health and safety in low-income privately-owned homes, HUD's Office of Healthy Homes and Lead Hazard Control operates a grant program for State and local governments to develop and implement cost-effective methods for the inspection and reduction of lead-based paint hazards in private owner-occupied and rental housing for low and moderate income families. In Rounds 6-8 (a “Round” refers to consecutively numbered annual grant awards, starting in fiscal year 1992) of this Lead Hazard Control Grant Program, HUD has awarded grants to sixty-five different States and localities. The purpose of this information collection is to study the effectiveness of the grant programs and the lead hazard control treatments conducted with these grants. To do this, HUD will study selected housing units within approximately ten grants programs that received Round 6-8 grants. Researchers will collect environmental samples and household information before and after lead hazard control treatments are applied to housing units that agree to participate in the study. The data collected during this project should provide HUD with a comprehensive assessment of whether program policies and procedures, treatment methods, and outcomes have changed, evolved, or improved significantly following the rounds 1-2 grant programs.

This information collection will involve conducting brief on-site interviews of property owners and tenants; brief interior and exterior visual inspections of housing units; collection of paint, soil, and dust-wipe samples for lead analysis; and collection of vacuum dust samples for future study on the effectiveness of lead hazard control treatments to reduce the presence of allergens and mold spores. Approximately five information collection visits will be made to participating housing units over a three to four year period. If appropriate, the results of this information collection will be used to improve existing HUD guidance for conducting safe and cost-effective lead hazard control treatments.

Agency For Numbers: None.

Members of Affected Public: Selected property owners and residents of housing units that agree to participate in the study representing approximately 10 state, county, or city level lead hazard control grant programs across the United States.

Total Burden Estimate (First Year):

Number of respondents | Average response time (hrs.) | Total hours
600 | 6 | 3600

Table 1.—Calculation of Respondent Burden Over the Full Study Period
Burden-causing task | Resident property owners | Non-resident property owners | Tenants
Complete informed consent form | 15 minutes | 15 minutes | 15 minutes.
Complete pre-treatment interview | 15 minutes | 15 minutes | 15 minutes.
Conduct risk assessment data collection | 30 minutes |  | 30 minutes.
Conduct clearance data collection | 30 minutes |  | 30 minutes.
Conduct post-clearance data collection | 60 minutes x 3 |  | 60 minutes x 3.
Complete post-treatment interviews | 10 minutes x 3 | 10 minutes x 3 | 10 minutes x 3.
Complete Maintenance and Turnover logs | 15 minutes | 30 minutes | 15 minutes.
Total | 5.25 hours | 1.5 hours. | 5.25 hours.

Average Response Time: 6 hours (assuming 50 percent owner-occupied housing units at 5.25 hrs. per unit; rental housing will require time of both owner and tenant for total of 6.75 hrs. per unit).

Total Burden for 600 units: 3,600 hours.

Status of the Proposed Information Collection: New collection.

Authority: The Paperwork Reduction Act of 1995, 44 U.S.C. Chapter 35, as amended.

Dated: October 29, 2001.
David E. Jacobs,
Director, Office of Healthy Homes and Lead Hazard Control.

[FR Doc. 01-27755 Filed 11-5-01; 8:45 am]

BILLING CODE 4210-70-M